DEPARTMENT OF TRANSPORTATION

Federal Aviation Administration

14 CFR Part 39

[Docket No. FAA-2016-9572; Directorate Identifier 2016-NM-151-AD; Amendment 39-18963; AD 2017-15-03]

RIN 2120-AA64

Airworthiness Directives; Airbus Airplanes

AGENCY: Federal Aviation Administration (FAA), Department of Transportation (DOT).

ACTION: Final rule.

SUMMARY: We are superseding Airworthiness Directive (AD) 2014-08-02 which applied to certain Airbus Model A300 B4-600 and A300 B4-600R series airplanes. AD 2014-08-02 required modifying the profile of stringer run-outs of both wings, including a high frequency eddy current (HFEC) inspection of the fastener holes for defects, and repairs if necessary. This new AD retains the actions required by AD 2014-08-02 and revises the compliance times. This AD was prompted by further analysis in the context of widespread fatigue damage (WFD), which concluded that shorter compliance times are necessary to meet specified requirements to address WFD. We are issuing this AD to address the unsafe condition on these products.

DATES: This AD is effective August 25, 2017.

The Director of the Federal Register approved the incorporation by reference of a certain publication listed in this AD as of August 25, 2017.

The Director of the Federal Register approved the incorporation by reference of a certain other publication listed in this AD as of May 21, 2014 (79 FR 21392, April 16, 2014).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9572.

Examining the AD Docket

You may examine the AD docket on the Internet at http://www.regulations.gov by searching for and locating Docket No. FAA-2016-9572; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2014-08-02, Amendment 39-17826 (79 FR 21392, April 16, 2014) (“AD 2014-08-02”). AD 2014-08-02 applied to certain Airbus Model A300 B4-600 and A300 B4-600R series airplanes. The NPRM published in the Federal Register on March 13, 2017 (82 FR 13405). The NPRM was prompted by further analysis in the context of WFD, which concluded that a shorter compliance time is necessary to meet specified requirements to address WFD. The NPRM proposed to continue to require modifying the profile of stringer run-outs of both wings, including a high frequency eddy current inspection of the fastener holes for defects, and repairs if necessary. The NPRM also proposed to require a revised compliance time for these actions. We are issuing this AD to prevent cracking in the bottom wing skin stringers, which could result in reduced structural integrity of the wings.

The European Aviation Safety Agency (EASA), which is the Technical Agent for the Member States of the European Union, has issued EASA Airworthiness Directive 2016-0174, dated August 30, 2016 (referred to after this as the Mandatory Continuing Airworthiness Information, or “the MCAI”), to correct an unsafe condition for certain Airbus Model A300 B4-600 and A300 B4-600R series airplanes. The MCAI states:

During full-scale fatigue testing, cracks were detected in the bottom wing skin stringers at Rib 14. In addition, operators have also reported finding cracks in the same area on in-service aeroplanes.

This condition, if not detected and corrected, could impair the structural integrity of the wings.

Additional analysis results showed that the improved design of the stringer run-out was necessary for aeroplanes operating beyond the Extended Service Goal 1.

To address this unsafe condition, Airbus issued Service Bulletin (SB) A300-57-6046 Revision 01 to provide modification instructions, and EASA issued AD 2013-0008 (later revised) [which corresponds to FAA AD 2014-08-02], to require the removal of the stringer end run-out plate at stringer 19 on the bottom wing skin and a re-profiling modification of the stringers 10, 11, 12, 17 and 19.

Since that [EASA] AD was issued, further analysis in the context of Widespread Fatigue Damage (WFD), concluded that a threshold reduction is necessary to meet the WFD requirements. Consequently, Airbus revised SB A300-57-6046 accordingly (now at Revision 03).

For the reasons described above, this [EASA] AD retains the requirements of EASA AD 2013-0008R1, which is superseded, but reduces the modification threshold, and introduces a pre-mod High Frequency Eddy Current (HFEC) inspection.

You may examine the MCAI in the AD docket on the Internet at http://www.regulations.gov by searching for and locating Docket No. FAA-2016-9572.

Comments

We gave the public the opportunity to participate in developing this AD. We considered the comment received. FedEx Express had no objection to the NPRM.

Conclusion

We reviewed the available data, including the comment received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We reviewed Airbus Service Bulletin A300-57-6046, Revision 03, including Appendix 01, dated February 4, 2015. The service information describes procedures to modify the profile of stringer run-outs of both wings, including a HFEC inspection of the fastener holes for defects, and repairs. It also describes new compliance times for completing the modifications. This service information is reasonably available because the interested parties have access to it through their normal course of business or by the means identified in the ADDRESSES section.

Costs of Compliance

We estimate that this AD affects 29 airplanes of U.S. registry.

The actions required by AD 2014-08-02, and retained in this AD, take about 63 work-hours per product, at an average labor rate of $85 per work-hour. Required parts cost about $2,360 per product. Based on these figures (accounting for updated work-hour and parts cost estimates), the estimated cost of this AD on U.S. operators is $7,715 per product.

We have received no definitive data that would enable us to provide cost estimates for any on-condition actions specified in this AD. We have no way of determining the number of aircraft that might need these repairs.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-08-02, Amendment 39-17826 (79 FR 21392, April 16, 2014), and adding the following new AD:

2017-15-03 Airbus: Amendment 39-18963; Docket No. FAA-2016-9572; Directorate Identifier 2016-NM-151-AD.

(a) Effective Date

This AD is effective August 25, 2017.

(b) Affected ADs

This AD replaces AD 2014-08-02, Amendment 39-17826 (79 FR 21392, April 16, 2014) (“AD 2014-08-02”).

(c) Applicability

This AD applies to Airbus Model A300-B4-601, B4-603, B4-620, and B4-622 airplanes, and Model A300-B4-605R and B4-622R airplanes, certificated in any category, except airplanes on which Airbus Modification 10324 or 10325 has been embodied in production.

(d) Subject

Air Transport Association (ATA) of America Code 57, Wings.

(e) Reason

This AD was prompted by an evaluation by the design approval holder indicating that certain wing skin stringers are subject to widespread fatigue damage. We are issuing this AD to prevent cracking in the bottom wing skin stringers, which could result in reduced structural integrity of the wings.

(f) Compliance

Comply with this AD within the compliance times specified, unless already done.

(g) Retained Modification of Rib 14, With Revised Compliance Time and Service Information

This paragraph restates the requirements of paragraph (g) of AD 2014-08-02, with revised compliance times and service information. At the time specified in paragraph (g)(1) or (g)(2) of this AD, whichever occurs earlier, modify the profile of stringer run-outs at rib 14 of both wings, including a high frequency eddy current inspection of the fastener holes for defects and all applicable repairs, in accordance with the Accomplishment Instructions of Airbus Service Bulletin A300-57-6046, Revision 02, dated June 21, 2013; or Revision 03, including Appendix 01, dated February 4, 2015; except as required by paragraph (h) of this AD. Do all applicable repairs before further flight. As of the effective date of this AD, only Airbus Service Bulletin A300-57-6046, Revision 03, including Appendix 01, dated February 4, 2015, may be used.

(1) Before the accumulation of 42,500 total flight cycles, or within 2,000 flight cycles after May 21, 2014 (the effective date of AD 2014-08-02), whichever occurs later.

(2) Before the accumulation of 30,000 total flight cycles, or within 2,000 flight cycles after the effective date of this AD, whichever occurs later.

(h) Retained Exception to the Service Information, With Revised Service Information

This paragraph restates the requirements of paragraph (h) of AD 2014-08-02, with revised service information.

(1) Where Airbus Mandatory Service Bulletin A300-57-6046, Revision 02, dated June 21, 2013, specifies to contact Airbus for repair instructions, this AD requires contacting the Manager, ANM-116, International Branch, Transport Airplane Directorate, FAA, or the European Aviation Safety Agency (EASA) (or its delegated agent) for repair instructions and doing those repairs before further flight.

(2) Where Airbus Service Bulletin A300-57-6046, Revision 03, including Appendix 01, dated February 4, 2015, specifies to contact Airbus for appropriate action: Before further flight, accomplish corrective actions in accordance with the procedures specified in paragraph (j)(2) of this AD.

(i) Credit for Previous Actions

This paragraph provides credit for actions required by paragraph (g) of this AD, if those actions were performed before the effective date of this AD using the service information specified in paragraph (i)(1), (i)(2), or (i)(3) of this AD.

(1) Airbus Service Bulletin A300-57-6046, dated January 18, 1994, which is not incorporated by reference in this AD.

(2) Airbus Service Bulletin A300-57-6046, Revision 01, dated April 18, 2011, which is not incorporated by reference in this AD.

(3) Airbus Service Bulletin A300-57-6046, Revision 02, dated June 21, 2013, which was incorporated by reference in AD 2014-08-02.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or EASA; or Airbus's EASA Design Organization Approval (DOA). If approved by the DOA, the approval must include the DOA-authorized signature.

(3) Required for Compliance (RC): Except as required by paragraph (h) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA Airworthiness Directive 2016-0174, dated August 30, 2016, for related information. This MCAI may be found in the AD docket on the Internet at http://www.regulations.gov by searching for and locating Docket No. FAA-2016-9572.

(2) For more information about this AD, contact Dan Rodina, Aerospace Engineer, International Branch, ANM-116, Transport Airplane Directorate, FAA, 1601 Lind Avenue SW., Renton, WA 98057-3356; telephone 425-227-2125; fax 425-227-1149.

(3) Service information identified in this AD that is not incorporated by reference is available at the addresses specified in paragraphs (l)(4) and (l)(5) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 25, 2017.

(i) Airbus Service Bulletin A300-57-6046, Revision 03, including Appendix 01, dated February 4, 2015.

(ii) Reserved.

(4) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on July 11, 2017.
Dionne Palermo,
Acting Manager, Transport Airplane Directorate, Aircraft Certification Service.

[FR Doc. 2017-15119 Filed 7-20-17; 8:45 am]

BILLING CODE 4910-13-P